DEPARTMENT OF COMMERCE

Foreign-Trade Zones Board

[B-61-2014]

Foreign-Trade Zone (FTZ) 82—Mobile, Alabama; Notification of Proposed Production Activity; Airbus Americas, Inc., (Commercial Passenger Aircraft); Mobile, AL

The City of Mobile, grantee of FTZ 82, submitted a notification of proposed production activity to the FTZ Board on behalf of Airbus Americas, Inc. (Airbus), located in Mobile, Alabama. The notification conforming to the requirements of the regulations of the FTZ Board (15 CFR 400.22) was received on August 21, 2014.

The Airbus facility is located within Site 1 of FTZ 82. The facility is used for the manufacture of commercial passenger aircraft. Pursuant to 15 CFR 400.14(b), FTZ activity would be limited to the specific foreign-status materials and components and specific finished products described in the submitted notification (as described below) and subsequently authorized by the FTZ Board.

Production under FTZ procedures could exempt Airbus from customs duty payments on the foreign status components used in export production. On its domestic sales, Airbus would be able to choose the duty rates during customs entry procedures that apply to commercial passenger aircraft (duty rate 0%) for the foreign status inputs noted below. Customs duties also could possibly be deferred or reduced on foreign status production equipment.

The components and materials sourced from abroad include: plastic handles and knobs; plastic washers; hex-head screws; lock washers; steel cotter pins; steel pins; aluminum rivets, pins, nuts and washers; plates, shims and other aircraft parts made of aluminum; metal mountings and brackets; check valves; safety valves; copper and steel thermostat valves; electric motors and generators; transformers; microphones; loudspeakers; electrical overload protectors; electrical switches; electrical connectors; wiring harnesses; wires with connectors; electrical cables; optical navigational equipment and autopilots; first aid kits; food and beverage preparation equipment; fire extinguishers; aircraft assemblies and parts; aircraft seats; and, trolleys (duty rate ranges from 0% to 8.5%).

Public comment is invited from interested parties. Submissions shall be addressed to the Board's Executive Secretary at the address below. The closing period for their receipt is October 14, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: August 28, 2014.
Andrew McGilvray,
Executive Secretary.

[FR Doc. 2014-21111 Filed 9-3-14; 8:45 am]

BILLING CODE 3510-DS-P